DEPARTMENT OF ENERGY

Environmental Management Site-Specific Advisory Board, Hanford

AGENCY: Department of Energy.

ACTION: Notice of Open Meeting.

SUMMARY: This notice announces a meeting of the Environmental Management Site-Specific Advisory Board (EM SSAB), Hanford. The Federal Advisory Committee Act (Pub. L. 92-463, 86 Stat. 770) requires that public notice of these meetings be announced in the Federal Register.

DATES: Thursday, June 7, 2001, 9 a.m.-5 p.m., Friday, June 8, 2001, 8:30 a.m.-4 p.m.

ADDRESSES: West Coast hotel (formerly Cavanaugh's) 1101 North Columbia Center Boulevard Kennewick, WA (509-783-0611)

FOR FURTHER INFORMATION CONTACT: Gail McClure, Public Involvement Program Manager, Department of Energy Richland Operations Office, P.O. Box 550 (A7-75), Richland, WA, 99352; Phone: (509) 373-5647; Fax: (509) 376-1563.

SUPPLEMENTARY INFORMATION: Purpose of the Board: The purpose of the Board is to make recommendations to DOE and its regulators in the areas of environmental restoration, waste management, and related activities.

Tentative Agenda

Thursday, June 7, 2001

• Update on current baselines and budgets (FY2002, FY2003)—Draft advise may be introduced

• Status of the Richland Operations Office

• Status of the Office of River Protection

• Introduction of Draft Advice on Principles for Existing Hanford

Clean-up Contracts

• Adoption of Hanford Advisory Board Guidance on Roles

Responsibilities and Expectations

• Tri-Party Agreement Community Relations Plan—Process and timeline for revising the document (Advice may be proposed.)

• Environmental Assessment on Low-Level Burial Ground Trench Expansion

• Explore opportunities for ways the Board could assist DOE in examining the framework on how clean-up is done.

Friday, June 8, 2001

• Refinement and adoption of draft advice

• Issue Manager Updates

• Spent Fuel

• Hanford Draft Stewardship Plan

• B-Reactor

• Tank Draft Supplemental Environmental Impact Statement

• Groundwater Roadmap Roundtable

• Site-Specific Advisory Board Letter to the Secretary

• Offsite-Waste

• Identification of Agenda Topics for September Board Meeting

Public Participation: The meeting is open to the public. Written statements may be filed with the Board either before or after the meeting. Individuals who wish to make oral statements pertaining to agenda items should contact Gail McClure's office at the address or telephone number listed above. Requests must be received five days prior to the meeting and reasonable provision will be made to include the presentation in the agenda. The Deputy Designated Federal Officer is empowered to conduct the meeting in a fashion that will facilitate the orderly conduct of business. Each individual wishing to make public comment will be provided equal time to present their comments.

Minutes: The minutes of this meeting will be available for public review and copying at the Freedom of Information Public Reading Room, 1E-190, Forrestal Building, 1000 Independence Avenue, SW., Washington, DC 20585 between 9 a.m. and 4 p.m., Monday-Friday, except Federal holidays. Minutes will also be available by writing to Gail McClure, Department of Energy Richland Operation Office, P.O. Box 550, Richland, WA 99352, or by calling her at (509) 373-5647.

Issued at Washington, DC on May 4, 2001.
Rachel M. Samuel,
Deputy Advisory Committee Management Officer.

[FR Doc. 01-11648 Filed 5-8-01; 8:45 am]

BILLING CODE 6450-01-U